DEPARTMENT OF TRANSPORTATION

Federal Aviation Administration

Agency Information Collection Activities: Requests for Comments; Clearance of Renewed Approval of Information Collection: Damage Tolerance and Fatigue Evaluation of Composite Rotorcraft Structures

AGENCY: Federal Aviation Administration (FAA), DOT.

ACTION: Notice and request for comments.

SUMMARY: In accordance with the Paperwork Reduction Act of 1995, FAA invites public comments about our intention to request the Office of Management and Budget (OMB) approval to renew an information collection. To obtain type certification of a rotorcraft, an applicant must show that the rotorcraft complies with specific certification requirements. To show compliance, the applicant must submit substantiating data.

DATES: Written comments should be submitted by February 19, 2016.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

FOR FURTHER INFORMATION CONTACT: Ronda Thompson at (202) 267-1416, or by email at: Ronda.Thompson@faa.gov.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0753.

Title: Damage Tolerance and Fatigue Evaluation of Composite Rotorcraft Structures.

Form Numbers: None.

Type of Review: Renewal of an information collection.

Background: The Federal Register Notice with a 60-day comment period soliciting comments on the following collection of information was published on November 10, 2015 (80 FR 69772). The “Damage Tolerance and Fatigue Evaluation of Composite Rotorcraft Structures” final rule (76 FR 74655) revised parts 27 and 29 of Title 14 of the Code of Federal Regulations to add new certification standards for normal and transport category rotorcraft to address advances in structural damage tolerance and fatigue substantiation technology for composite rotorcraft structures. To obtain type certification of a rotorcraft, an applicant must show that the rotorcraft complies with specific certification requirements. To show compliance, the applicant must submit substantiating data. FAA engineers or designated engineer representatives from industry review the required data submittals to determine if the rotorcraft complies with the applicable minimum safety requirements for damage tolerance and fatigue evaluation of composite structures and that the rotorcraft has no unsafe features in the composite structures.

Respondents: Approximately 6 applicants for certification for 10.5 part 27 rotorcraft and 6 part 29 rotorcraft.

Frequency: Information is collected on occasion.

Estimated Average Burden per Response: 54.5 hours.

Estimated Total Annual Burden: 109 hours.

Issued in Washington, DC, on January 13, 2016.
Ronda Thompson,
FAA Information Collection Clearance Officer, Performance, Policy & Records Management Branch, ASP-110.

[FR Doc. 2016-00974 Filed 1-19-16; 8:45 am]

BILLING CODE 4910-13-P